DEPARTMENT OF HEALTH AND HUMAN SERVICES

Administration for Children and Families

Proposed Information Collection Activity; Comment Request

Title: Adoption and Foster Care Analysis Reporting System for Title IV-B and Title IV-E (AFCARS).

OMB No.: 0970-0422.

Description: The Adoption and Foster Care Analysis and Reporting System (AFCARS) is mandated by 42 U.S.C. 679. The regulation at 45 CFR 1355 sets forth the requirements of section 479 of the Social Security Act for the collection of uniform, reliable information on children who are under the responsibility of the State or Tribal title IV-B/IV-E agency for placement, care, and adoption. Effective October 1, 2009, section 479B(b) of the Act authorizes direct Federal funding of Indian Tribes, Tribal organizations, and Tribal consortia that choose to operate a foster care, adoption assistance and, at Tribal option, a kinship guardianship assistance program under title IV-E of the Act. The Federal regulations at 45 CFR 1355.40 were amended as part of an Interim Final Rule published January 6, 2012 to apply the same regulatory requirements for data collection and reporting to a Tribal title IV-E agency as are applied to a State title IV-E agency.

The data collected will inform State/Tribal/Federal policy decisions, program management, and responses to Congressional and Departmental inquiries. Specifically, the data are used for short/long-term budget projections, trend analysis, child and family service reviews, and to target areas for improved technical assistance. The data will provide information about foster care placements, adoptive parents, length of time in care, delays in termination of parental rights and placement for adoption.

Respondents: Title IV-E State and Tribal Child Welfare Agencies.

Annual Burden Estimates
Instrument | Number of respondents | Number of responses per respondent | Average burden hours per response | Total burden hours
AFCARS | 72 | 2 | 1,786 | 257,184

Estimated Total Annual Burden Hours: 257,184.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-12405 Filed 5-28-14; 8:45 am]

BILLING CODE 4184-01-P